DEPARTMENT OF THE INTERIOR

Bureau of Land Management

[ES-020-08-1610-DQ-028M]

Notice of Availability of the Alabama and Mississippi Proposed Resource Management Plan and Final Environmental Impact Statement

AGENCY: Bureau of Land Management, Interior.

ACTION: Notice of Availability.

SUMMARY: In accordance with the National Environmental Policy Act of 1969 and the Federal Land Policy and Management Act of 1976, the Bureau of Land Management (BLM) has prepared a Proposed Resource Management Plan/Final Environmental Impact Statement (PRMP/FEIS) for Alabama and Mississippi.

DATES: The BLM planning regulations (43 CFR 1610.5-2) state that any person who meets the conditions as described in the regulations may protest the BLM's Proposed RMP. A person who meets the conditions and files a protest must file the protest within 30 days of the date that the Environmental Protection Agency publishes its notice in the Federal Register.

ADDRESSES: Copies of the Alabama and Mississippi PRMP/FEIS have been sent to affected Federal, State, and local government agencies and to interested parties. Copies of the Proposed RMP/FEIS are available for public inspection at the BLM-ES Jackson Field Office, 411 Briarwood Drive, Suite 404, Jackson, Mississippi 39206. Interested persons may also review the Proposed RMP/FEIS on the Internet at http://www.es.blm.gov/AL_MS_RMP. All protests must be in writing and must be mailed to:

Regular Mail: Director (210), Attention: Brenda Williams, P.O. Box 66538, Washington, DC 20035.

Overnight Mail: Director (210), Attention: Brenda Williams, 1620 L Street, NW., Suite 1075, Washington, DC 20036.

FOR FURTHER INFORMATION, CONTACT: Gary Taylor, Planning and Environmental Coordinator, Bureau of Land Management-Eastern States, Jackson Field Office, 411 Briarwood Drive, Jackson, Mississippi 39206. Mr. Taylor may also be contacted by telephone: (601) 977-5413.

SUPPLEMENTARY INFORMATION: This PRMP/FEIS covers all the public land resources administered by the BLM in the States of Alabama and Mississippi. The issues addressed in the PRMP/FEIS are mineral leasing and ownership adjustment of the scattered surface tracts. Within the two States combined, the BLM administers approximately 333 acres of public land surface and mineral estate and 621,090 acres of Federal minerals where the surface estate is in non-Federal ownership. The BLM also has responsibility for 2,081,880 acres of mineral estate where the surface is managed by other Federal agencies, including 1,871,550 acres of National Forest lands. On these lands, leasing of Federal minerals is subject to management as directed by the surface managing agency, and the decisions of this RMP will pertain only to the BLM's role in administering the minerals. The RMP will not make decisions on oil and gas leasing of National Forest acreage, because by regulation the U.S. Forest Service (USFS) is responsible for land use planning decisions on oil and gas leasing. Within the two States, there are also 9,788 acres of lands with uncertain title. These are public domain lands according to General Land Office records, but may have private claims of ownership. The RMP will not make management decisions on these lands per se; however, these lands will be available for disposal to qualified applicants under the Color-of-Title Act. Public participation was solicited during the formation of the Draft RMP/EIS through public meetings in Gulf Shore, AL; Birmingham, AL; and Jackson, MS.

Comments on the Draft RMP/EIS received from the public and internal BLM review were incorporated into the proposed plan. Public comments resulted in the addition of clarifying text, but did not significantly change proposed land use decisions.

Instructions for filing a protest with the Director of the BLM regarding the PRMP/FEIS may be found in the Dear Reader Letter of the Alabama and Mississippi PRMP/FEIS and at 43 CFR 1610.5. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at 202-452-5112, and e-mails to Brenda_Hudgens-Williams@blm.gov. All protests, including the follow-up letter (if e-mailing or faxing) must be in writing and mailed to the address(es) set forth in the ADDRESSES section, above.

Before including your phone number, e-mail address, or other personal identifying information in your protest, you should be aware that your entire protest—including your personal identifying information—may be made publicly available at any time. While you can ask us in your protest to withhold your personal identifying information from public review, we cannot guarantee that we will be able to do so.

Dated: March 25, 2008.
Juan Palma,
State Director, Eastern States.

Editorial Note: This document was received at the Office of the Federal Register on August 25, 2008.

[FR Doc. E8-19951 Filed 8-28-08; 8:45 am]

BILLING CODE 4310-GJ-P